NUCLEAR REGULATORY COMMISSION

[EA-07-111,114,117]

In the Matter of: Wackenhut Nuclear Services, Inc.; Confirmatory Order (Effective Immediately)

I

Wackenhut Nuclear Services, Inc. (WNS) provides security related services to the Turkey Point Nuclear Plant (Turkey Point), operated by Florida Power & Light Company (FPL or Licensee). FPL holds License Nos. DPR-31 and DPR-41, issued by the Nuclear Regulatory Commission (NRC or Commission) on July 19, 1972, and April 10, 1973, respectively, pursuant to 10 CFR Part 50. The license authorizes the operation of Turkey Point, Units 3 and 4, in accordance with the conditions specified therein. Turkey Point is located on the Licensee's site in Florida City, Florida.

II

On February 24, 2006, the Nuclear Regulatory Commission (NRC) completed an on-site inspection of security-related matters at FPL's Turkey Point Nuclear Plant. During the inspection, an investigation was initiated by the NRC's Office of Investigations (OI), which was subsequently completed on August 23, 2006. The purpose of the investigation was to determine whether WNS security personnel rendered contingency response weapons non-functional and whether information in FPL documents was inaccurate or incomplete in some respect material to the Commission. The results of the OI investigation and additional in-office inspection activity were documented in a letter to WNS dated May 25, 2007, which identified three apparent violations involving the activities of WNS employees. The three apparent violations included:

A. In August 2005, a broken firing pin from a contingency response weapon was discovered at FPL's Turkey Point facility. Based on an investigation, the NRC's OI determined that a WNS security officer deliberately removed and broke a firing pin from a contingency response weapon, rendering the weapon non-functional. This activity caused FPL's Turkey Point Nuclear Plant to be in apparent violation of its Physical Security Plan, sections 4.1 and 5.4, Revision 0b, and Security Force Instruction (SFI) 2404, section 2.3, Revision 21, and caused WNS to be in apparent violation of 10 CFR 50.5.

B. In April of 2004, a WNS employee deliberately removed the firing pins from two contingency response weapons, rendering the weapons non-functional. These actions caused FPL to be in apparent violation of a February 25, 2002, NRC Order and Interim Compensatory Measures, section B.4(f) , and caused WNS to be in apparent violation of 10 CFR 50.5.

C. On or about October 2004, the WNS Project Manager assigned to FPL's Turkey Point Nuclear Plant, provided the licensee with information in Condition Report (CR) 2004-13573, related to a damaged firing pin event, which was not complete or accurate in some respect material to the NRC. The CR was provided by FPL to NRC inspectors during a February 2006 inspection at Turkey Point, and was used to inform the NRC's inquiry regarding additional actions necessary to address serious security concerns. The NRC preliminarily concluded that the WNS security project manager engaged in deliberate misconduct in apparent violation of 10 CFR 50.5, in that he was aware at the time that the information documented in the CR was not complete or accurate. As a result, the WNS security project manager's actions caused FPL to be in apparent violation of 10 CFR 50.9, and caused WNS to be in apparent violation of 10 CFR 50.5.

III

The results of the NRC's preliminary conclusions, as discussed in Section II, were provided to WNS by NRC letter dated May 25, 2007. The NRC's letter informed WNS that the NRC was considering the apparent violations for escalated enforcement action in accordance with the NRC Enforcement Policy, and offered WNS a choice to: (1) Attend a Pre-decisional Enforcement Conference; (2) provide a written response; or (3) request ADR with the NRC in an attempt to resolve any disagreement on whether violations occurred, the appropriate enforcement action, and the appropriate corrective actions. In response, WNS requested ADR to resolve the matter. WNS and the NRC participated in an ADR session in Atlanta, Georgia, on August 27, 2007. As a result of the ADR session, WNS and the NRC reached an Agreement in Principle, which consisted of the following elements:

1. WNS agrees to the underlying facts which give rise to apparent violations (A) and (B) as discussed in section II. Regarding violation (C), WNS agreed to provide, within 10 business days of the date of the Agreement in Principle, subject to 10 CFR 2.390, information on the docket to support its view that the subject violation did not occur. NRC agrees to review and consider this information during the course of its deliberations in this and related matters prior to the issuance of a Confirmatory Order.

2. During the ADR, WNS described its implementation of enhanced employment selection programs, many of which are intended to address professionalism and high standards of integrity that exceed regulatory requirements. NRC and WNS reached a preliminary agreement that WNS will continue its initiatives in the following areas to achieve sustained enhancements in security:

1. WNS New Hire/Recruitment Policy; WNS 102, “New Hire Recruitment Policy”;

2. Site Enhancement Plan related to the Turkey Point facility;

3. Development of an enhanced program for leadership development and WNS' desire to be “best in class”;

4. Benchmarking to include audits, self-assessments, and Safety Conscious Work Environment;

5. Ideal Facility Performance Indicators for Turkey Point;

6. Continual Behavior Observation Program will include “one-on-one” discussions between supervisors and their direct reports to discuss behaviors that are adverse to security, and the obligation of officers to report adverse behavior and other actions which could jeopardize the safety and security of the plant;

7. Communications with the NRC, to include the following: Development and submittal to the NRC of an initial report detailing specific information on the above actions, within approximately three months of issuance of the Confirmatory Order. Subsequent status reports will be submitted to the NRC approximately every six months, for a period of two years (four reports in total). At the end of this period (approximately 27 months following issuance of the Confirmatory Order), a management meeting between the NRC and WNS will occur. The process will be completed after 27 months unless reasonable cause exists for continuing with required reporting;

3. The NRC and WNS agreed that the above elements will be incorporated into issuance of a Confirmatory Order.

4. The NRC and WNS agreed that the elements as discussed at the ADR meeting of August 27, 2007, are subject to change based on WNS operational, management or industry considerations and with prior notice to the NRC.

IV

Because WNS has agreed to take actions to address the NRC's concerns, as set forth in section II above, the NRC has concluded that its concerns can be resolved through issuance of this Order.

I find that WNS' commitments set forth in section V below are acceptable and necessary, and I conclude that with these commitments the public health and safety are reasonably assured. In view of the foregoing, I have determined that public health and safety require that WNS' commitments be confirmed by this Order. Based on the above and WNS' consent, this Order is immediately effective upon issuance.

V

Accordingly, pursuant to sections 104, 161b, 161i, 161o, and 186 of the Atomic Energy Act of 1954, as amended, the Commission's regulations in 10 CFR 2.202 and 10 CFR Part 50, It is hereby ordered, effective immediately, that:

WNS will continue its initiatives in the following areas to achieve sustained enhancements in security, including:

1. A WNS New Hire/Recruitment Policy; WNS 102, “New Hire Recruitment Policy”;

2. A Site Enhancement Plan related to the Turkey Point facility;

3. Development of an enhanced program for leadership development and WNS' desire to be “best in class”;

4. Benchmarking to include audits, self-assessments, and Safety Conscious Work Environment;

5. Ideal Facility Performance Indicators for Turkey Point;

6. Continual Behavior Observation Program will include “one-on-one” discussions between supervisors and their direct reports to discuss behaviors that are adverse to security, and the obligation of officers to report adverse behavior and other actions which could jeopardize the safety and security of the plant;

7. Communications with the NRC, to include the following: Development and submittal to the NRC of an initial report detailing specific information on the above actions, within approximately three months of issuance of the Confirmatory Order. Subsequent status reports will be submitted to the NRC approximately every six months, for a period of two years (four reports in total). At the end of this period (approximately 27 months following issuance of the Confirmatory Order), a management meeting between the NRC and WNS will occur. The process will be completed after 27 months unless reasonable cause exists for continuing with required reporting;

The Regional Administrator, NRC Region II, may relax or rescind, in writing, any of the above conditions upon a showing by WNS of good cause.

VI

Any person adversely affected by this Confirmatory Order, other than WNS, may request a hearing within 20 days of its issuance. Where good cause is shown, consideration will be given to extending the time to request a hearing. A request for extension of time must be made in writing to the Director, Office of Enforcement, U.S. Nuclear Regulatory Commission, Washington, DC 20555-0001, and include a statement of good cause for the extension. Any request for a hearing shall be submitted to the Secretary, U.S. Nuclear Regulatory Commission, ATTN: Chief, Rulemakings and Adjudications Staff, Washington, DC 20555-0001. Copies of the hearing request shall also be sent to the Director, Office of Enforcement, U.S. Nuclear Regulatory Commission, Washington, DC 20555-0001; to the Assistant General Counsel for Materials Litigation and Enforcement, at the same address; to the Regional Administrator, NRC Region II, 61 Forsyth Street SW., Suite 23T85, Atlanta, GA 30303-8931; and to WNS. Because of the possible disruptions in delivery of mail to United States Government offices, it is requested that answers and requests for hearing be transmitted to the Secretary of the Commission either by means of facsimile transmission to (301) 415-1101 or by e-mail to hearingdocket@nrc.gov and also to the Office of the General Counsel either by means of facsimile transmission to (301) 415-3725 or by e-mail to OGCMailCenter@nrc.gov. If a person other than WNS requests a hearing, that person shall set forth with particularity the manner in which his interest is adversely affected by this Order and shall address the criteria set forth in 10 CFR 2.309(d) and (f).

If a hearing is requested by a person whose interest is adversely affected, the Commission will issue an Order designating the time and place of any hearing. If a hearing is held, the issue to be considered at such hearing shall be whether this Confirmatory Order should be sustained.

In the absence of any request for hearing, or written approval of an extension of time in which to request a hearing, the provisions specified in section V above shall be final 20 days from the date of this Order without further order or proceedings. If an extension of time for requesting a hearing has been approved, the provisions specified in section V shall be final when the extension expires if a hearing request has not been received.

An answer or a request for hearing shall not stay the immediate effectiveness of this order.

Dated this 22nd day of January 2008.
For the Nuclear Regulatory Commission.
Victor M. McCree,
Acting Regional Administrator.

[FR Doc. E8-1847 Filed 1-31-08; 8:45 am]

BILLING CODE 7590-01-P